DEPARTMENT OF TRANSPORTATION

Federal Aviation Administration

14 CFR Part 1

Definitions and Abbreviations

CFR Correction

In Title 14 of the Code of Federal Regulations, Parts 1 to 59, revised as of January 1, 2015, on pages 12 and 13, in § 1.1, the definitions beginning with VA and ending with VS are removed.

[FR Doc. 2015-20045 Filed 8-13-15; 8:45 am]

BILLING CODE 1505-01-D